DEPARTMENT OF LABOR

Veterans' Employment and Training Service

Advisory Committee on Veterans' Employment, Training and Employer Outreach (ACVETEO): Meeting

AGENCY: Veterans' Employment and Training Service (VETS), Department of Labor (DOL).

ACTION: Notice of open meeting.

SUMMARY: This notice sets forth the schedule and proposed agenda of a forthcoming meeting of the ACVETEO. The ACVETEO will discuss the DOL core programs and services that assist veterans seeking employment and raise employer awareness as to the advantages of hiring veterans. There will be an opportunity for individuals or organizations to address the committee. Any individual or organization that wishes to do so should contact Mr. Gregory Green at ACVETEO@dol.gov. Additional information regarding the Committee, including its charter, current membership list, annual reports, meeting minutes, and meeting updates may be found at https://www.dol.gov/agencies/vets/about/advisorycommittee. This notice also describes the functions of the ACVETEO. This document is intended to notify the general public.

DATES: Tuesday, January 14, 2025 beginning at 10 a.m. and ending at approximately 12 p.m. (EST).

ADDRESSES: This ACVETEO meeting will be held via TEAMS and teleconference. Meeting information will be posted at the link below under the Meeting Updates tab. https://www.dol.gov/agencies/vets/about/advisorycommittee.

Notice of Intent To Attend the Meeting: All meeting participants should submit a notice of intent to attend by Friday, January 10, 2025, via email to Mr. Gregory Green at ACVETEO@dol.gov, subject line “January 2025 ACVETEO Meeting.” Individuals who will need accommodations for a disability to attend the meeting (e.g., interpreting services, assistive listening devices, and/or materials in alternative format) should notify the Advisory Committee no later than Tuesday, January 7, 2025, by contacting Mr. Gregory Green at ACVETEO@dol.gov.

Requests made after this date will be reviewed, but availability of the requested accommodations cannot be guaranteed.

FOR FURTHER INFORMATION CONTACT: Mr. Gregory Green, Designated Federal Official for the ACVETEO, ACVETEO@dol.gov, (202) 693-4734.

SUPPLEMENTARY INFORMATION: The ACVETEO is a Congressionally mandated advisory committee authorized under Title 38, U.S. Code, Section 4110 and subject to the Federal Advisory Committee Act, 5 U.S.C. 10. The ACVETEO is responsible for: assessing employment and training needs of veterans; determining the extent to which the programs and activities of the U.S. Department of Labor meet these needs; assisting to conduct outreach to employers seeking to hire veterans; making recommendations to the Secretary, through the Assistant Secretary for Veterans' Employment and Training Service, with respect to outreach activities and employment and training needs of veterans; and carrying out such other activities necessary to make required reports and recommendations. The ACVETEO meets at least quarterly.

Agenda

10:00 a.m. Welcome and remarks, James D. Rodriguez, Assistant Secretary, Veterans' Employment and Training Service

10:10 a.m. Administrative Business, Gregory Green, Designated Federal Official

10:15 a.m. Discussion and review of Fiscal Year 2024 Annual Report, Kayla Lopez, Committee Chair

10:30 a.m. HIRE Vets Medallion Update, Randy Smith

11:00 a.m. TAP update, Tim Winter

11:30 p.m. Public Forum, Gregory Green, Designated Federal Official

12:00 p.m. Adjourn

Signed in Washington, DC, this 16th day of December 2024.
James D. Rodriguez,
Assistant Secretary, Veterans' Employment and Training Service.

[FR Doc. 2024-30396 Filed 12-19-24; 8:45 am]

BILLING CODE 4510-79-P